FEDERAL COMMUNICATIONS COMMISSION

47 CFR Part 73

[DA 00-2062; MM Docket No. 00-84; RM-9855; MM Docket 00-85; RM-9868; MM Docket No. 00-86; RM-9869; MM Docket 00-89; RM-9872; MM Docket No. 00-111; RM-9900; MM Docket No. 00-112; RM-9901]

Radio Broadcasting Services; Jacksonville, GA; Las Vegas, NM; Vale, OR; Waynesboro, GA; Fallon, NV; Weiser, OR

AGENCY: Federal Communications Commission.

ACTION: Final rule.

SUMMARY: The Commission allots: (1) Channel 272A to Jacksonville, GA, as its first local aural service, at the request of Clyde and Connie Lee Scott, d/b/a EME Communications, (2) Channel 224A to Las Vegas, NM, as its fifth local commercial FM service, at the request of Sangre de Christo Broadcasting Company, Inc.; (3) Channel 288C to Vale, OR, as its first local aural service, at the request of New West Broadcasting; (4) Channel 225A to Waynesboro, GA, as its third local FM service, at the request of SSR Communications Incorporated; (5) Channel 281C to Fallon, NV, as its third local FM service, at the request of FBB Broadcasting; and (6) Channel 280C1 to Weiser, OR, as its first local aural service, at the request of WE Broadcasting. See, 65 FR 3499, June 1, 2000, 65 FR 47370, August 2, 2000. All of the channels can be allotted in compliance with the Commission's minimum distance separation requirements. Channel 272A at Jacksonville, GA, requires a site restriction of 13.5 kilometers (8.4 miles) northwest, at coordinates 31-51-54 NL; 83-06-16 WL, to avoid a short-spacing to Stations WZAT, Channel 271C, Savannah, GA; WBGA, Channel 273C1, Waycross, GA, and WYSC, Channel 274A, McRae, GA. See SUPPLEMENTARY INFORMATION.

DATES: Effective October 23, 2000.

ADDRESSES: Federal Communications Commission, Washington, D.C. 20554.

FOR FURTHER INFORMATION CONTACT: Leslie K. Shapiro, Mass Media Bureau, (202) 418-2180.

SUPPLEMENTARY INFORMATION: This is a synopsis of the Commission's Report and Order, MM Docket Nos. 00-84, 00-85, 00-86, 00-89, 00-111 and 00-112, adopted August 30, 2000, and released September 8, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036. Channel 224A at Las Vegas, NM, can be allotted without a site restriction, at coordinates 35-36-00 NL; 105-13-00 WL. Channel 288C at Vale, OR, requires a site restriction of 9.6 kilometers (6.0 miles) west, at coordinates 44-00-06 NL; 117-21-32 WL, to avoid a short-spacing to Stations KJOT, Channel 286C, Boise, ID, and KCIX, Channel 290C, Garden City, ID. Channel 225A at Waynesboro, GA, requires a site restriction of 2.0 kilometers (1.3 miles) northeast, at coordinates 33-06-23 NL; 82-00-14 WL, to avoid a short-spacing to Stations WKKZ, Channel 224C2, Dublin, GA, and WEAS-FM, Channel 226C1, Savannah, GA. Channel 281C at Fallon, NV, requires a site restriction of 8.4 kilometers (5.2 miles) east, at coordinates 39-28-30 NL; 118-40-43 WL, to avoid a short-spacing to Stations KODS, Channel 279C1, Carnelian Bay, CA, and Station KDOT, Channel 283C, Reno, NV. Channel 280C1 at Weiser, OR, requires a site restriction of 17.8 kilometers (11 miles) northwest, at coordinates 44-20-39 NL; 117-07-14 WL, to avoid a short-spacing to Stations KSAS-FM, Channel 277C, Caldwell, ID, and KLTB, Channel 282C, Boise, ID. A filing window for these channels will not be opened at this time. Instead, the issue of opening a filing window for these channels will be addressed by the Commission in a subsequent order.

List of Subjects in 47 CFR Part 73

Radio broadcasting.

Part 73 of title 47 of the Code of Federal Regulations is amended as follows:

PART 73—[AMENDED]

1. The authority citation for part 73 continues to read as follows:

Authority: 47 U.S.C. 154, 303, 334, and 336.

§ 73.202 [Amended]

2. Section 73.202(b), the Table of FM Allotments under Georgia, is amended by adding Jacksonville, Channel 272A and adding Channel 225A at Waynesboro.

3. Section 73.202(b), the Table of FM Allotments under Nevada, is amended by adding Channel 281C at Fallon.

4. Section 73.202(b), the Table of FM Allotments under New Mexico, is amended by adding Channel 224A at Las Vegas.

5. Section 73.202(b), the Table of FM Allotments under Oregon, is amended by adding Vale, Channel 288C, and Weiser, Channel 280C1.

Federal Communications Commission.
John A. Karousos,
Chief, Allocations Branch, Policy and Rules Division, Mass Media Bureau.

[FR Doc. 00-24069 Filed 9-19-00; 8:45 am]

BILLING CODE 6712-01-P